DEPARTMENT OF COMMERCE

International Trade Administration

[A-570-869]

Notice of Amended Final Determination of Sales at Less Than Fair Value: Structural Steel Beams From the People's Republic of China

AGENCY: Import Administration, International Trade Administration, Department of Commerce.

ACTION: Notice of amended final determination of sales at less than fair value.

SUMMARY: On May 20, 2002, we published in the Federal Register our notice of final determination of sales at less than fair value. See Final Determination of Sales at Less Than Fair Value: Structural Steel Beams from the People's Republic of China, 67 FR 35479 (May 20, 2002). We are amending our final determination to correct clerical and ministerial errors discovered with respect to the antidumping duty margin calculations for Maanshan Iron & Steel Co., Ltd.

EFFECTIVE DATE: June 18, 2002.

FOR FURTHER INFORMATION CONTACT: Lyn Johnson or Richard Rimlinger, AD/CVD Enforcement Group I, Office 3, Import Administration, International Trade Administration, U.S. Department of Commerce, 14th Street and Constitution Avenue, NW., Washington, DC 20230; telephone: (202) 482-4733.

Period of Investigation

The period of investigation is October 1, 2000, through March 31, 2001.

The Applicable Statute and Regulations

Unless otherwise indicated, all citations to the Act are references to the provisions effective January 1, 1995, the effective date of the amendments made to the Tariff Act of 1930 (the Act) by the Uruguay Round Agreements Act. In addition, unless otherwise indicated, all citations to the regulations of the Department of Commerce (the Department) are to 19 CFR part 351 (April 2001).

SUPPLEMENTARY INFORMATION:

Background

On May 20, 2002, we published in the Federal Register our final determination that structural steel beams from the People's Republic of China (PRC) are being, or are likely to be, sold in the United States at less than fair value (LTFV), as provided in section 735(a) of the Act. See Final Determination of Sales at Less Than Fair Value: Structural Steel Beams from the People's Republic of China, 67 FR 35479 (May 20, 2002), and accompanying Issues and Decision Memorandum (Final Determination). Following publication, the Department discovered two ministerial errors it made in the language it used in the notice published in the Federal Register. On May 28, 2002, the Committee for Fair Beam Imports and its individual members (the petitioners) filed timely comments on the Final Determination. Some of the petitioners' comments were allegations of ministerial errors and others were issues being raised for the first time. On June 3, 2002, the respondent, Maanshan Iron & Steel Co, Ltd. (Maanshan), filed timely rebuttal comments.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is classified in the Harmonized Tariff Schedule of the United States (HTSUS) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Analysis of Comments Received

The Department's regulations define a ministerial error as one involving “addition, subtraction, or other arithmetic function, clerical error resulting from inaccurate copying, duplication or the like, and any other similar type of unintentional error which the Secretary considers ministerial.” See 19 CFR 351.224(f). After reviewing the allegations, we have determined, in accordance with 19 CFR 351.224, that the Final Determination includes ministerial errors. Therefore, we have made changes, described in the section below, to the final determination.

Changes Since to Final Determination

We have made the following changes to the notice published in the Federal Register and our margin calculations. Please see the Decision Memorandum accompanying this notice for a detailed discussion of these changes.

(1) At 67 FR 35480 of the Final Determination, in the “Changes Since the Preliminary Determination” section, the Department stated mistakenly at (6)(c) that “ * * * [it] used a brokerage and handling cost based on bulk products instead of stainless steel products.” This statement is incorrect and, therefore, the stated cost does not apply to this investigation.

(2) At 67 FR 35481 of the Final Determination, in the “Final Determination Margins” section and the “Continuation of Suspension of Liquidation” section, we neglected to identify Ma Steel International (Ma Steel) as the exporter. Also, the language under “Continuation of Suspension of Liquidation” stated incorrectly that the Customs instructions would apply to entries “ * * * for consumption on or after the publication date of this final determination in the Federal Register.” The correct language is “ * * * for consumption on or after December 28, 2001, the publication date of the preliminary determination in the Federal Register.”

(3) We corrected the brokerage and handling amount. We also added a freight amount to the cost of steam coal.

(4) We excluded freight costs from the surrogate values we applied to waste and by-products.

(5) We corrected our calculations of the factory overhead and selling, general, and administrative (SG&A) expense financial ratios as follows: a) We recalculated the overhead and SG&A expenses using the correct amount for “Stores and Spares consumed” based on TATA's 2001 financial statements; b) we moved the amount of “Stores and Spares consumed” from raw materials to overhead expenses; c) we excluded “Freight & Handling” expenses and “Purchases of Finished, Semi-Finished Steel and Other Products” from our calculations of the financial ratios.

Amended Final Determination Margin

In accordance with 19 CFR 351.224(e), we are amending the final determination of the antidumping duty investigation of structural steel beams from the PRC with respect to Maanshan and its affiliated sales entity in the PRC, Ma Steel. The PRC-wide rate has not changed. As a result of correcting ministerial errors, we determine that the following percentage weighted-average amended final margins exist for the period October 1, 2000, through March 31, 2001:

Manufacturer/exporter | Final determination | Amended final determination
Maanshan/Ma Steel | 0.00 | 15.23
PRC-Wide Rate | 89.17 | 89.17

Suspension of Liquidation

In accordance with section 735(c)(1)(B) of the Act, we are directing the Customs Service to begin suspension of liquidation of all entries of structural steel beams from the PRC that are produced by Maanshan, exported by Maanshan or Ma Steel, and entered, or withdrawn from warehouse, for consumption on or after the date of publication of this amended final determination in the Federal Register. We are also directing the Customs Service to continue to suspend liquidation of all entries of structural steel beams from the PRC that are entered, or withdrawn from warehouse, for consumption on or after December 28, 2001, the publication date of the preliminary determination in the Federal Register for all other exporters. The Customs Service shall continue to require a cash deposit or the posting of a bond based on the estimated weighted-average dumping margins shown above. The suspension-of-liquidation instructions will remain in effect until further notice.

ITC Notification

In accordance with section 735(d) of the Act, we will notify the International Trade Commission (ITC) of our determination. As our amended final determination is affirmative, the ITC will determine, within 45 days from the date of the publication of the Final Determination (May 20, 2002), whether these imports are causing material injury, or threat of material injury, to an industry in the United States. If the ITC determines that material injury or threat of injury does not exist, the proceeding will be terminated and all securities posted will be refunded or canceled. If the ITC determines that such injury does exist, the Department will issue an antidumping duty order directing Customs officials to assess antidumping duties on all imports of the subject merchandise entered, or withdrawn from warehouse, for consumption on or after the effective date of the suspension of liquidation.

This notice serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 735(d) and 777(i) of the Act.

Dated: June 12, 2002.
Richard W. Moreland,
Acting Assistant Secretary for Import Administration.

[FR Doc. 02-15346 Filed 6-17-02; 8:45 am]

BILLING CODE 3510-DS-P